DEPARTMENT OF ENERGY

Federal Energy Regulatory Commission

Combined Notice of Filings #1

Take notice that the Commission received the following electric rate filings:

Docket Numbers: ER13-1665-001.

Applicants: Novo BioPower, LLC.

Description: Amendment to Novo Biopower, LLC Market-Based Rate Tariff to be effective 7/1/2013.

Filed Date: 6/18/13.

Accession Number: 20130618-5124.

Comments Due: 5 p.m. ET 7/2/13.

Docket Numbers: ER13-1722-000.

Applicants: Duke Energy Carolinas, LLC.

Description: Due West PPA—RS 329 to be effective 7/2/2012.

Filed Date: 6/18/13.

Accession Number: 20130618-5089.

Comments Due: 5 p.m. ET 7/9/13.

Docket Numbers: ER13-1723-000.

Applicants: Duke Energy Carolinas, LLC.

Description: Prosperity PPA—RS 333 to be effective 7/2/2012.

Filed Date: 6/18/13.

Accession Number: 20130618-5093.

Comments Due: 5 p.m. ET 7/9/13.

Docket Numbers: ER13-1724-000.

Applicants: Nevada Power Company.

Description: Rate Schedule No. 133 Transmission Service Agreement—ORNI 47 LLC to be effective 1/1/2014.

Filed Date: 6/18/13.

Accession Number: 20130618-5132.

Comments Due: 5 p.m. ET 7/9/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 19, 2013.
Nathaniel J. Davis, Sr.,
Deputy Secretary.

[FR Doc. 2013-15391 Filed 6-26-13; 8:45 am]

BILLING CODE 6717-01-P